DEPARTMENT OF STATE

Office of Defense Trade Controls

[Public Notice 3531]

Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(e) of the Arms Export Control Act (22 U.S.C. 2776).

EFFECTIVE DATE: As shown on each of the nine letters.

FOR FURTHER INFORMATION CONTACT: Mr. William J. Lowell, Director, Office of Defense Trade Controls, Bureau of Political-Military Affairs, Department of State (202 663-2700).

SUPPLEMENTARY INFORMATION: Section 38(e) of the Arms Export Control Act mandates that notifications to the Congress pursuant to sections 36(c) and 36(d) must be published in the Federal Register when they are transmitted to Congress or as soon thereafter as practicable.

Dated: December 28, 2000.
William J. Lowell,
Director, Office of Defense Trade Controls, U.S. Department of State.

October 5, 2000.

Dear Mr. Speaker: Pursuant to Section 36(c)(d) of the Arms Export Control Act, I am transmitting herewith certification of a proposed license for the export of defense articles or defense services sold commercially under a contract in the amount $50,000,000 or more.

The transaction contained in the attached certification involves the export of defense services and technical data to Germany and France, for the cooperative development and production of a Storable Upper Stage Rocket Engine (SUSE).

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 66-00.

The Honorable J. Dennis Hastert, Speaker of the House of Representatives.

October 11, 2000.

Dear Mr. Speaker: Pursuant to Section 36(c) of the Arms Export Control Act, I am transmitting, herewith, certification of a proposed license for the export of defense articles or defense services sold commercially under a contract in the amount of $50,000,000 or more.

The transaction contained in the attached certification involves the export of six (6) Multi-Mission Surveillance Aircraft Systems to the Government of Algeria for use by the Algerian Ministry of Defense. It includes a technical assistance agreement for defense services to support these systems.

The United States Government is prepared to license the export of these items having taken into account political, military, economic, human rights, and arms control considerations.

More detailed information is contained in the formal certification which, though unclassified contains business information submitted to the Department of State by the applicant, publication of which could cause competitive harm to the United States firm concerned.

Sincerely,

Barbara Larkin,

Assistant Secretary, Legislative Affairs, Department of State.

Enclosure: Transmittal No. DTC 095-00

The Honorable J. Dennis Hastert, Speaker of the House of Representatives.

October 2, 2000.

Dear Mr. Speaker: Pursuant to Section 36(c) of the Arms Export Control Act, I am transmitting herewith certification of a proposed license for the export of defense articles or defense services sold commercially under a contract in the amount $50,000,000 or more.

The transaction contained in the attached certification involves the export to Japan of the Imagery Management Support System to operate in association with the IKONOS commercial remote-sensing satellite.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin

Assistant Secretary, Legislative Affairs, Department of State.

Enclosure: Transmittal No. DTC 096-00

The Honorable J. Dennis Hastert, Speaker of the House of Representatives.

September 15, 2000.

Dear Mr. Speaker: Pursuant to Section 36(d) of the Arms Export Control Act, I am transmitting herewith certification of a proposed Manufacturing License Agreement with Japan.

The transaction described in the attached certification involves the manufacture of image intensifier assemblies for return to the United States.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 98-00

The Honorable J. Dennis Hastert, Speaker of the House of Representatives.

October 5, 2000.

Dear Mr. Speaker: Pursuant to Section 36(c) of the Arms Export Control Act, I am transmitting, herewith, certification of a proposed license for the export of defense articles or defense services sold commercially under a contract in the amount of $50,000,000 or more.

The transaction contained in the attached certification involves the export of technical data, information and services on communication satellites GE7, GE8, GE9, GE1A and GE2A to the underwriters from Australia, Belgium, Bermuda, Canada, France, Germany, Italy, Japan, Norway, Sweden and the United Kingdom in order to provide adequate insurance coverage during the operational life of the satellites.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 111-00

The Honorable J. Dennis Hastert, Speaker of the House of Representatives.

October 3, 2000.

Dear Mr. Speaker: Pursuant to Section 36(c) of the Arms Export Control Act, I am transmitting herewith certification of a proposed license for the export of defense articles or defense services sold commercially under a contract in the amount of $50,000,000 or more.

The transaction contained in the attached certification involves the commercial lease of four (4) C-17 cargo aircraft to the United Kingdom Ministry of Defence.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin, Assistant Secretary, Legislative Affairs, Department of State.

Enclosure: Transmittal No. DTC 113-00

The Honorable J. Dennis Hastert, Speaker of the House of Representatives.

October 11, 2000

Dear Mr. Speaker: Pursuant to Section 36(c) of the Arms Export Control Act, I am transmitting herewith certification of a proposed license for the export of defense articles or defense services sold commercially under a contract in the amount of $50,000,000 or more.

The transaction contained in the attached certification involves the export of the AsiaSat 4 commercial communications satellite to Hong Kong with launch scheduled from the United States.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 114-00

The Honorable J. Dennis Hastert, Speaker of the House of Representatives.

October 2, 2000.

Dear Mr. Speaker: Pursuant to Section 36(d) of the Arms Export Control Act, I am transmitting, herewith, certification of a proposed Manufacturing License Agreement with Italy.

The transaction described in the attached certification involves the transfer of technical data and defense services for the co-development of an Identification Friend or Foe (IFF) Digital Transponder, Traffic Collision Avoidance System and Ethernet interface.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 127-00

The Honorable J. Dennis Hastert, Speaker of the House of Representatives.

October 11, 2000.

Dear Mr. Speaker: Pursuant to Section 36(c) of the Arms Export Control Act, I am transmitting, herewith, certification of a proposed license for the export of defense articles or defense services sold commercially under a contract in the amount of $50,000,000 or more.

The transaction contained in the attached certification involves the export to Israel of technical information, defense articles and services necessary for the development of Switchable Eyesafe Laser Rangefinder/Designator (SELRD) systems for Comanche and Apache helicopters.

The United States Government is prepared to license the export of these items having taken into account political, military, economic, human rights, and arms control considerations.

More detailed information is contained in the formal certification which, though unclassified, contains business information submitted to the Department of State by the applicant, publication of which could cause competitive harm to the United States firm concerned.

Sincerely,

Barbara Larkin,

Assistant Secretary, Legislative Affairs, Department of State.

Enclosure: Transmittal No. DTC 141-00

The Honorable J. Dennis Hastert, Speaker of the House of Representatives.

[FR Doc. 01-225 Filed 1-3-01; 8:45 am]

BILLING CODE 4710-25-P